OFFICE OF PERSONNEL MANAGEMENT

[OMB Control No. 3206-0212; Forms RI 38-117, RI 38-118, and RI 37-22]

Submission for OMB Review; Request for Comments on a Revised Information Collection

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for review of a revised information collection. This information collection, “Rollover Election” (OMB Control No. 3206-0212, Form RI 38-117), is used to collect information from each payee affected by a change in the tax code so that OPM can make payment in accordance with the wishes of the payee. “Rollover Information” (OMB Control No. 3206-0212, Form RI 38-118), explains the election. “Special Tax Notice Regarding Rollovers” (OMB Control No. 3206-0212, Form RI 37-22), provides more detailed information.

The estimated number of respondents is 1,500. We estimate it takes approximately 30 minutes to complete the form. The annual burden is 750 hours.

For copies of this proposal, contact Cyrus S. Benson on (202) 606-0623, FAX (202) 606-0910 or via E-mail to Cyrus.Benson@opm.gov. Please include a mailing address with your request.

DATES: Comments on this proposal should be received within 30 calendar days from the date of this publication.

ADDRESSES: Send or deliver comments to—James K. Freiert, Deputy Assistant Director, Retirement Services Program, Center for Retirement and Insurance Services, U.S. Office of Personnel Management, 1900 E Street, NW., Room 3305, Washington, DC 20415-3500 and OPM Desk Officer, Office of Information & Regulatory Affairs, Office of Management and Budget, New Executive Office Building, 725 17th Street, NW., Room 10235, Washington, DC 20503.

For information regarding administrative coordination contact: Cyrus S. Benson, Team Leader, Publications Team, RIS Support Services/Support Group, U.S. Office of Personnel Management, 1900 E Street, NW., Room 4H28, Washington, DC 20415, (202) 606-0623.

John Berry,
Director, U.S. Office of Personnel Management.

[FR Doc. E9-26314 Filed 10-30-09; 8:45 am]

BILLING CODE 6325-38-P